DEPARTMENT OF TRANSPORTATION

Federal Highway Administration

Notice of Final Federal Agency Actions on the Interstate 495 Express Lanes Northern Extension Project in Fairfax County, Virginia

AGENCY: Federal Highway Administration (FHWA), Department of Transportation (DOT).

ACTION: Notice of limitation on claims for judicial review of actions by FHWA and the National Park Service (NPS).

SUMMARY: This notice announces actions taken by the FHWA and the NPS that are final. The actions relate to the Interstate 495 Express Lanes Northern Extension Project from the Dulles Toll Road/Route 267 interchange to the George Washington Memorial Parkway in Fairfax County, Virginia. Those actions grant licenses, permits, and approvals for the project.

DATES: By this notice, the FHWA is advising the public of final agency actions subject to 23 U.S.C. 139(l)(1). A claim seeking judicial review of the Federal agency actions on the highway project will be barred unless the claim is filed on or before March 3, 2022. If the Federal law that authorizes judicial review of a claim provides a time period of less than 150 days for filing such claim, then that shorter time period still applies.

FOR FURTHER INFORMATION CONTACT: For FHWA: John Simkins, Planning, Environment, Realty, and Freight Team Leader, FHWA Virginia Division, 400 North 8th Street, Suite 750, Richmond, Virginia 23219; telephone: (804) 775-3347; email: John.Simkins@dot.gov. The FHWA Virginia Division's regular office hours are 8:00 a.m. to 5:00 p.m. (Eastern Time). For NPS: Tammy Stidham, Deputy Associate Area Director—Lands and Planning, 1100 Ohio Drive SW, Washington, DC 20242; telephone: (202) 619-7474; email: Tammy_Stidham@nps.gov. The National Park Service's regular office hours are 9:00 a.m. to 5:00 p.m. (Eastern Time). For the Virginia Department of Transportation: Abraham Lerner, Associate Manager of Special Projects Development, 4975 Alliance Drive, Fairfax, Virginia 22030; telephone: (804) 259-3345; email: Abraham.Lerner@vdot.virginia.gov. The Virginia Department of Transportation's regular office hours are 7:00 a.m. to 4:00 p.m. (Eastern Time).

SUPPLEMENTARY INFORMATION: Notice is hereby given that FHWA and the NPS have taken final agency actions subject to 23 U.S.C. 139(l)(1) by issuing licenses, permits, and approvals for the following project in the State of Virginia: Interstate 495 Express Lanes Northern Extension Project in Fairfax County, Virginia. The project is an extension of the Interstate 495 (I-495) Express Lanes along approximately three miles of I-495, also referred to as the Capital Beltway, from their current northern terminus south of the Dulles Toll Road (DTR)/Route 267 interchange to the George Washington Memorial Parkway (GWMP). Although the I-495 Express Lanes would terminate at the GWMP, improvements would extend approximately 0.3 miles north of the GWMP to provide a tie-in to the existing road. The project also includes access ramp improvements and lane reconfigurations along portions of the DTR and the Dulles International Airport Access Highway, on either side of I-495, from the Spring Hill Road Interchange to the Route 123 interchange. The proposed improvements entail new and reconfigured I-495 Express Lane ramps and general-purpose lane ramps.

The actions taken by FHWA, and the laws under which such actions were taken, are described in the Revised Environmental Assessment (EA) for the project, approved on February 24, 2020, in the FHWA Finding of No Significant Impact (FONSI) issued on June 29, 2021, and in other documents in the FHWA project records. The FHWA Revised EA, FONSI, and other project records can be viewed and downloaded from the project website at www.495northernextension.org and are also available by contacting FHWA or the Virginia Department of Transportation at the phone numbers and addresses provided above. The NPS FONSI is available by contacting Tammy Stidham at the address provided above and can be viewed and downloaded from www.495northernextension.org.

This notice applies to all Federal agency decisions as of the issuance date of this notice and all laws under which such actions were taken, including but not limited to:

1. General: National Environmental Policy Act (NEPA) [42 U.S.C. 4321-4347]; Federal-Aid Highway Act (FAHA) [23 U.S.C. 109 and 23 U.S.C. 128].

2. Air: Clean Air Act [42 U.S.C. 7401-7671(q)].

3. Land: Section 4(f) of the Department of Transportation Act of 1966 [49 U.S.C. 303 and 23 U.S.C. 138].

4. Historic and Cultural Resources: Section 106 of the National Historic Preservation Act of 1966, as amended [54 U.S.C. 306108].

5. Social and Economic: Farmland Protection Policy Act [7 U.S.C. 4201-4209].

6. Executive Orders: Exec. Order. No. 12898—Federal Actions to Address Environmental Justice in Minority Populations and Low-Income Populations.

(Catalog of Federal Domestic Assistance Program Number 20.205, Highway Planning and Construction. The regulations implementing Exec. Order No. 12372 regarding intergovernmental consultation on Federal programs and activities apply to this program.)

Authority: 23 U.S.C. 139(l)(1).

Thomas Nelson, Jr.,
Division Administrator, Richmond, Virginia.

[FR Doc. 2021-21309 Filed 10-1-21; 8:45 am]

BILLING CODE 4910-RY-P